DEPARTMENT OF THE INTERIOR

Bureau of Land Management

[LLNV912000 L16400000.PH0000 LXSS006F0000 261A; 11-08807; MO#4500020093; TAS: 14X1109]

Notice of Public Meetings: Mojave-Southern Great Basin Resource Advisory Council, Nevada

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Mojave-Southern Great Basin Resource Advisory Council (RAC) will meet in Las Vegas, Nevada. The meetings are open to the public.

Dates and Times: March 16, 2011, at the Red Rock Canyon National Conservation Area (NCA) Visitor's Center, Las Vegas, Nevada; July 21, 2011, at the BLM Southern Nevada District Office, 4701 N. Torrey Pines Dr., Las Vegas, Nevada; and September 22, 2011, at the BLM Southern Nevada District Office, 4701 N. Torrey Pines Dr., Las Vegas, Nevada.

Meeting times will be made public prior to each meeting. Each meeting will include a general public comment period that will be listed in the final meeting agenda that will be available two weeks prior to each meeting.

FOR FURTHER INFORMATION CONTACT: Hillerie Patton, (702) 515-5046, E-mail: hpatton@blm.gov.

SUPPLEMENTARY INFORMATION: The 15-member Council advises the Secretary of the Interior, through the BLM, on a variety of planning and management issues associated with public land management in Nevada. Topics for discussion will include, but are not limited to: District Manager's reports on current program of work, Southern Nevada Public Land Management Act Round 12 review of proposals, RAC-hosted public comment periods, the BLM Battle Mountain District and Southern Nevada District Resource Management Plans, Land Use Planning, Recreation and Off-Highway Vehicle Use, Wildland Policy and Transmission Lines, subgroup reports, and other topics that may be raised by RAC members.

The final agendas with any additions/corrections to agenda topics, locations, field trips and meeting times, will be posted on the BLM Web site at: http://www.blm.gov/nv/st/en/res/resource_advisory.html, and will be sent to the media at least 14 days before the meeting. Individuals who need special assistance such as sign language interpretation or other reasonable accommodations, or who wish to receive a copy of each agenda, should contact Hillerie Patton at 702-515-5046 no later than one week before the start of each meeting.

Dated: February 16, 2011.
Mary Jo Rugwell,
Southern Nevada District Manager, RAC Designated Federal Official.

[FR Doc. 2011-4329 Filed 2-25-11; 8:45 am]

BILLING CODE 4310-HC-P